DEPARTMENT OF COMMERCE

National Oceanic and Atmospheric Administration

[I.D. 022505A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Assistant Regional Administrator for Sustainable Fisheries, Northeast Region, NMFS (Assistant Regional Administrator), has determined that an application for EFPs contains all of the required information and warrants further consideration. The Assistant Regional Administrator is considering the impacts of the activities to be authorized under the EFPs with respect to the Northeast (NE) Multispecies Fishery Management Plan (FMP). However, further review and consultation may be necessary before a final determination is made to issue EFPs. Therefore, NMFS announces that the Assistant Regional Administrator proposes to issue EFPs in response to an application submitted by the Cape Cod Commercial Hook Fisherman's Association (CCCHFA), in collaboration with Maine Division of Marine Resources (MEDMR), and Research, Environmental and Management Support (REMSA). These EFPs would allow up to 20 commercial vessels to conduct an experimental demersal longline fishery for haddock in Georges Bank (GB) Closed Area (CA) II and portions of the Eastern U.S./ Canada Area. This fishery would take place at various times from May 2005 through February 2006. The purpose of the proposed study is to determine if hook-and-line gear could be used to target haddock with minimal bycatch of cod in order to establish potential future Special Access Programs (SAPs) in these areas as allowed under Amendment 13 to the FMP. The EFPs would also contain a provision authorizing the RA to discontinue the experimental fishery once a specified amount of cod and haddock are caught or at her discretion.

DATES: Comments on this action must be received at the appropriate address or fax number (see ADDRESSES) on or before March 17, 2005.

ADDRESSES: Written comments should be sent to Patricia A. Kurkul, Regional Administrator, NMFS, NE Regional Office, 1 Blackburn Drive, Gloucester, MA 01930. Mark the outside of the envelope “Comments on Haddock CA II SAP EFP Proposal.” Comments may also be sent via fax to (978) 281-9135, or submitted via e-mail to the following address: da735@noaa.gov. Copies of the Environmental Assessment (EA) are available from the NE Regional Office at the same address.

FOR FURTHER INFORMATION CONTACT: Heather Sagar, Fishery Management Specialist, phone: 978-281-9341, fax: 978-281-9135, email: heather.sagar@noaa.gov

SUPPLEMENTARY INFORMATION:

Background

The CCCHFA, in collaboration with MEDMR and REMSA, submitted a request on November 16, 2004, to conduct an experimental fishery for GB haddock within GB CA II and a portion of the Eastern U.S./Canada Area. The purpose of the proposed study is to determine if demersal longline gear could be used to target haddock with minimal bycatch of cod in order to establish potential future SAP. This proposal builds on an ongoing study that began on June 10, 2004, and which ended on January 31, 2005. Preliminary results from this ongoing study demonstrate the viability of utilizing demersal longline gear to reduce bycatch of cod in a portion of Cashes Ledge Closure Area, Western Gulf of Maine Closure Area, GB CA I, and Rolling Closure Area III.

The CCCHFA's most recent proposal requests authorizing a total of 160 trips by 20 commercial longline vessels to fish for and possess haddock in the Eastern U.S./Canada Area, including CA II, during the period May 1, 2005, through February 28, 2006. Similar to their initial experiment, days-at-sea (DAS) would be used. Throughout this study, CCCHFA hopes to determine the appropriate season, bait, and location for a directed haddock fishery in the above identified areas that would have minimal impact on other groundfish stocks, particularly GB cod, for the purpose of developing a SAP. Participating vessels would be prohibited from fishing in areas outside of the identified areas during an experimental fishing trip. Participating vessels would also be prohibited from fishing in the Eastern U.S./Canada Area, should it be closed due to the attainment of either the cod, yellowtail flounder, or haddock TACs. Finally, participating vessels would be prevented from fishing in CA II during peak spawning for cod and haddock, unless otherwise notified. This study would follow normal fishing practices.

Proposed Study Areas and Seasons
Area | Closure Type | Duration | Location | # Vessels | # Trips
GB CA II | Year-Round | May 2005 through February 2006 | Georges Bank CA II | 10 | 80 (8 per month)
Eastern U.S./Canada Area | TAC Based | May 2005 through February 2006 | Eastern U.S./Canada Area | 10 | 80 (8 per month)

Vessels used in this study would include both GB Cod Hook Sector (Sector) and non-Sector vessels. All cod caught by Sector vessels would count against the Sector's cod allocation. The applicant estimates that each vessel would average 19,900 lb (9.0 mt) of haddock and less than 1 percent bycatch of GB cod per trip, for a total of 3,184,000 lb (1,444.6 mt) of haddock and 31,840 lb (14.4 mt) of cod. However, the applicant believes the study can be successfully completed with a bycatch of GB cod of 20,000 lb (9.1 mt). Therefore, to ensure that participating vessels stay within the confines of this experiment, the study will be subject to a poundage cap of 20,000 lb (9.1 mt) of GB cod, and 3,184,000 lb (1,444.6 mt) of GB haddock. Should this cap be caught, the RA would discontinue the experimental fishery. All fish landed would be subject to the minimum fish size. Although all vessels would be exempt from the haddock trip limits, non-Sector vessel would not be exempt from the cod trip limit requirements. Because the target species is haddock, the applicant has requested an exemption from the 3,600- hook limits for non-Sector vessels. Hook limits for longline fishermen were implemented as a means to reduce the catch of cod on Georges Bank. As such, the limit is unnecessary for fishermen targeting haddock. Additionally, EFPs DA-280 and DA-338 have demonstrated that the bycatch rate of cod is less than 1 percent when using fabricated baits.

REMSA scientific staff would be present on board each participating vessel, equating to 100-percent scientific data collector coverage for this experimental fishery. Scientific data collectors would be responsible for collecting all biological and environmental data on NMFS observer forms. CCCHFA would develop a full report of results and would submit this information to the NMFS Northeast Regional Office monthly. The EFPs would contain a provision that the RA has the authority to discontinue the proposed experimental fishery at any time, e.g., the RA would terminate the EFP if the Eastern U.S./Canada Area is closed due to TAC-based closures.

A draft EA has been prepared that analyzes the impacts of the proposed experimental fishery on the human environment. This draft EA concludes that the activities proposed to be conducted under the requested EFP are consistent with the goals and objectives of the FMP, would not be detrimental to the well-being of any stocks of fish harvested, and would have no significant environmental impacts. The draft EA also concludes that the proposed experimental fishery would not be detrimental to Essential Fish Habitat, marine mammals, or protected species.

The applicant may request minor modifications to the EFP throughout the year. EFP modifications may be granted without further notice if they are deemed essential to facilitate completion of the proposed research and minimal enough so as not to change the scope or impact the initially approved EFP request.

Regulations under the Magnuson-Stevens Fishery Conservation and Management Act require publication of this notification to provide interested parties the opportunity to comment on applications for proposed EFPs.

Authority: 16 U.S.C. 1801 et seq.

Dated: February 25, 2005.
Alan D. Risenhoover,
Acting Director, Office of Sustainable Fisheries,National Marine Fisheries Service.

[FR Doc. E5-829 Filed 3-1-05; 8:45 am]

BILLING CODE 3510-22-S